DEPARTMENT OF ENERGY

Federal Energy Regulatory Commission

[Docket RP05-266-001]

Northern Natural Gas Company; Notice of Compliance Filing

May 11, 2005.

Take notice that on May 9, 2005, Northern Natural Gas Company (Northern) tendered for filing to become part of its FERC Gas Tariff, Fifth Revised Volume No. 1, the following tariff sheets, with an effective date of May 5, 2005:

Substitute Eighth Revised Sheet No. 101

Substitute Fourth Revised Sheet No. 116

Substitute Second Revised Sheet No. 308

Northern states that it is filing the above-referenced tariff sheets in compliance with the Commission's May 4, 2005 Order in this docket requiring Northern to make the full requirements option available to all Rate Schedule TF and Rate Schedule TFX shippers.

Northern further states that copies of the filing have been mailed to each of its customers and interested state commissions.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-2476 Filed 5-16-05; 8:45 am]

BILLING CODE 6717-01-P